DEPARTMENT OF JUSTICE

Office of Justice Programs

[OMB Number 1121-NEW]

Agency Information Collection Activities; Proposed eCollection; eComments Requested; New Collection: Survey of State Attorneys General Offices (SSAGO): Human Trafficking

AGENCY: Bureau of Justice Statistics, Office of Justice Programs, Department of Justice.

ACTION: 30-Day notice.

SUMMARY: Department of Justice (DOJ), Office of Justice Programs, Bureau of Justice Statistics, will be submitting the following information collection request to the Office of Management and Budget (OMB) for review and approval in accordance with the Paperwork Reduction Act of 1995. This proposed information collection was previously published in the Federal Register on August 6, 2018, allowing for a 60 day comment period. Six comments from the public were received during this period and are thoroughly addressed in the supporting statement for this collection. Briefly, three comments stated support for the survey and three comments requested more information but did not provide any follow-up comments.

DATES: Comments are encouraged and will be accepted for an additional 30 day until November 19, 2018.

FOR FURTHER INFORMATION CONTACT: If you have additional comments especially on the estimated public burden or associated response time, suggestions, or need a copy of the proposed information collection instrument with instructions or additional information, please contact Suzanne M. Strong, Statistician, Bureau of Justice Statistics, 810 Seventh Street NW, Washington, DC 20531 (email: Suzanne.M.Strong@usdoj.gov; telephone: 202-616-3666). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of State Attorneys General Offices (SSAGO)—Human Trafficking.

(3) Agency form number, if any, and the applicable component of the Department sponsoring the collection: The form number for the questionnaire is SSAGO-2. The applicable component within the Department of Justice is the Bureau of Justice Statistics, in the Office of Justice Programs.

Affected public who will be asked or required to respond, as well as a brief abstract: Respondents will be state attorneys general or deputy attorneys within the state and territory attorneys general offices who work on human trafficking matters. The SSAGO:HT will be conducted for a three (3) month period. The survey collects data on the staffing of state attorneys general offices, including the total number of deputy attorneys general and access to support staff. The survey also collects information on the types and numbers of human trafficking matters referred to the state attorneys general offices, the sources of the referrals of human trafficking matters, the estimates of labor and sex trafficking cases, the types of victims in labor and sex trafficking cases, the types of offenders of labor and sex trafficking cases, the manner in which criminal and civil human trafficking cases were closed in court, and state attorneys general offices' participation in state and federal human trafficking task forces. BJS plans to publish this information in reports and reference it when responding to queries from the U.S. Congress, Executive Office of the President, the U.S. Supreme Court, state officials, international organizations, researchers, students, the media, and others interested in criminal justice statistics.

(4) An estimate of the total number of respondents and the amount of time estimated for an average respondent to respond/reply: An agency-level survey will be sent to the 56 state and territory attorneys general offices. The expected burden placed on these respondents is 25 minutes to complete the survey, with an additional 5 minutes to locate any additional persons necessary to complete the survey.

(6) An estimate of the total public burden (in hours) associated with the collection: There are an estimated 28 total burden hours associated with this collection.

If additional information is required contact: Melody Braswell, Department Clearance Officer, United States Department of Justice, Justice Management Division, Policy and Planning Staff, Two Constitution Square, 145 N Street NE, Suite 3E.405B, Washington, DC 20530.

Dated: October 16, 2018.
Melody Braswell,
Department Clearance Officer, PRA, U.S. Department of Justice.

[FR Doc. 2018-22802 Filed 10-18-18; 8:45 am]

BILLING CODE 4410-18-P